DEPARTMENT OF HOMELAND SECURITY

Coast Guard

[USCG-2004-17767]

Chemical Transportation Advisory Committee

AGENCY: Coast Guard, DHS.

ACTION: Notice of meeting.

SUMMARY: The Subcommittee of the Chemical Transportation Advisory Committee (CTAC) on Hazardous Cargo Transportation Security will meet to discuss the potential addition of acrylonitrile to the Certain Dangerous Cargoes (CDC) definition and to review recent workgroup discussions and outcomes regarding CDC mixtures and the Declaration of Security. This meeting will be open to the public.

DATES: The CTAC Subcommittee on Hazardous Cargo Transportation Security will meet on Tuesday, June 8, 2004, from 8 a.m. to 4 p.m. and Wednesday, June 9, 2004, from 8 a.m. to 4 p.m. These meetings may close early if all business is finished. Written material and requests to make oral presentations should reach the Coast Guard on or before June 4, 2004. Requests to have a copy of your material distributed to each member of the Subcommittee should also reach the Coast Guard on or before June 4, 2004.

ADDRESSES: The Subcommittee on Hazardous Cargo Transportation Security will meet at the Department of Transportation Headquarters, Nassif Building, L'Enfant Plaza, 400 7th Street, SW., Washington, DC, in room 6244. Send written material and requests to make oral presentations to Commander Robert J. Hennessy, Executive Director of CTAC, Commandant (G-MSO-3), U.S. Coast Guard Headquarters, 2100 Second Street, SW., Washington, DC 20593-0001. This notice is available on the Internet at http://dms.dot.gov.

FOR FURTHER INFORMATION CONTACT: Commander Robert J. Hennessy, Executive Director of CTAC, telephone (202) 267-1217 or fax (202) 267-4570.

SUPPLEMENTARY INFORMATION: Notice of these meetings is given under the Federal Advisory Committee Act, 5 U.S.C. App. 2 (Pub. L. 92-463, 86 Stat. 770, as amended).

Agenda of Subcommittee Meeting on June 8, 2004

Discuss potential addition of acrylonitrile to the CDC definition.

Agenda of Subcommittee Meeting on June 9, 2004

Review recent workgroup discussions and outcomes regarding CDC mixtures and the Declaration of Security.

Procedural

These meetings are open to the public. Please note that the meetings may close early if all business is finished. At the discretion of the Chair, members of the public may make oral presentations during the meetings. If you would like to make an oral presentation at a meeting, please notify the Executive Director and submit written material. If you would like a copy of your material distributed to each member of the Committee in advance of a meeting, please submit 25 copies to the Executive Director (see ADDRESSES and DATES).

Information on Services for Individuals With Disabilities

For information on facilities or services for individuals with disabilities, or to request special assistance at the meeting, telephone the Executive Director as soon as possible.

Dated: May 10, 2004.
Joseph J. Angelo,
Director of Standards, Marine Safety, Security and Environmental Protection.

[FR Doc. 04-11147 Filed 5-14-04; 8:45 am]

BILLING CODE 4910-15-P